DEPARTMENT OF LABOR

Employment and Training Administration

Agency Information Collection Activities; Submission for OMB Review; Comment Request; Correction

ACTION: Notice; Correction.

SUMMARY: The Department of Labor's (DOL) Employment and Training Administration (ETA) published a document in the Federal Register on July 20, 2020, soliciting public comments concerning a proposed revision for the authority to conduct the information collection request (ICR) titled, ETA Form 9089 Application for Permanent Employment Certification. The document contained an incorrect ICR number referenced for Forms ETA-750A, Application for Alien Employment Certification—Offer of Employment, and/or ETA-750B, Application for Alien Employment Certification—Statement of Qualifications of Alien.

FOR FURTHER INFORMATION CONTACT: Brian Pasternak by telephone on 202-513-7350 (this is not a toll-free number) or by email at ETA.OFLC.Forms@dol.gov.

SUPPLEMENTARY INFORMATION:

Correction

In the Federal Register of July 20, 2020, in FR Doc. 2020-15592 on page 43877 (85 FR 43877) in the third column, correct ICR number referenced to read:

ETA is also seeking public comment on a proposal to revise the form to allow employers seeking to employ professional athletes or coaches, as well as those claiming National Interest Waivers (NIW), to use the proposed form and discontinue the collection of this information on the Forms ETA-750A, Application for Alien Employment Certification—Offer of Employment, and/or ETA-750B, Application for Alien Employment Certification—Statement of Qualifications of Alien (OMB Control Number 1205-0015).

John Pallasch,
Assistant Secretary for Employment and Training.

[FR Doc. 2020-16537 Filed 7-29-20; 8:45 am]

BILLING CODE 4510-FP-P